DEPARTMENT OF HOMELAND SECURITY

48 CFR Parts 3016 and 3052

[Docket No. DHS-2012-0050]

RIN 1601-AA65

Homeland Security Acquisition Regulation, Subcontractor Labor Hour Rates Under Time and Materials Contracts (HSAR Case 2010-001); Withdrawal

AGENCY: Office of the Chief Procurement Officer, Department of Homeland Security (DHS).

ACTION: Notice of withdrawal of proposed rule.

SUMMARY: The Department of Homeland Security (DHS) is withdrawing its proposed rule titled Homeland Security Acquisition Regulation (HSAR) Subcontractor Labor Hour Rates Under Time and Materials Contracts (HSAR Case 2010-001) and providing this notice of cancellation. The notice of proposed rulemaking proposed to amend the Homeland Security Acquisition Regulation (HSAR) parts 3016 and 3052 to require DHS contracts for time and material or labor hours (T&M/LH) to include separate labor hour rates for subcontractors and a description of the method that will be used to record and bill for labor hours for both contractors and subcontractors. DHS is withdrawing this proposed rule because of differing agency priorities and the staleness of the public comments. DHS will not take any further action on this proposal.

DATES: The proposed rule published on August 21, 2012 (75 FR 50449) is withdrawn effective September 19, 2023.

ADDRESSES: Mail: Department of Homeland Security, Office of the Chief Procurement Officer, Acquisition Policy and Legislation, ATTN: Catherine Benavides, 245 Murray Drive, Bldg. 410 (RDS), Washington, DC 20528.

FOR FURTHER INFORMATION CONTACT: Ms. Catherine Benavides, Procurement Analyst, DHS, Office of the Chief Procurement Officer, Acquisition Policy and Legislation at (202) 897-8301 or email HSAR@hq.dhs.gov. When using email, include HSAR Case 2010-001 in the “Subject” line.

SUPPLEMENTARY INFORMATION: On August 21, 2012, the Department of Homeland Security (DHS) proposed to amend the Department of Homeland Security Acquisition Regulation (HSAR), 48 CFR chapters 3016 and 3052 to propose regulations to require DHS contracts for T&M/LH to include separate labor hour rates for subcontractors and a description of the method that will be used to record and bill for labor hours for both contractors and subcontractors. DHS is withdrawing this proposed rule because it is not a mandated requirement to set agency specific procedures. DHS is withdrawing this proposed rule and will not take any further action on this proposal.

Paul Courtney,
Chief Procurement Officer, Department of Homeland Security.

[FR Doc. 2023-20276 Filed 9-18-23; 8:45 am]

BILLING CODE P